DEPARTMENT OF THE INTERIOR

National Park Service

Environmental Impact Statement (EIS) on Recreational and Subsistence Use of ORVs in the Nabesna District of Wrangell-St. Elias National Park and Preserve

AGENCY: National Park Service, Interior.

ACTION: Notice of Intent to Prepare an Environmental Impact Statement (EIS).

SUMMARY: This notice supplements the National Park Service (NPS) Notice of Intent to Prepare an Environmental Impact Statement on Recreational Use of Off-Road Vehicles Along Nine Trails in the Nabesna Area of Wrangell-St. Elias National Park and Preserve published in Federal Register, Vol. 72, No. 245 on Friday, December 21, 2007. The NPS intends to expand the scope of the EIS to include the use of Off-Road Vehicles (ORVs) for subsistence purposes.

The NPS is preparing an EIS on the use of ORVs in the Nabesna area of Wrangell-St. Elias National Park and Preserve. The purpose of the EIS is to evaluate a range of alternatives for managing recreational and subsistence off-road vehicle use including use on the following trails: Caribou Creek, Lost Creek, Trail Creek, Reeve Field, Boomerang Lake, Soda Lake, Suslota Lake, Copper Lake and Tanada Lake. The EIS will be used to guide the management of all ORV use.

In addition to the No Action alternative, the EIS will evaluate a proposed action that would authorize recreational ORV use on trails that can be maintained to a standard that minimizes resource impacts. Other alternatives include authorizing recreational ORV use on all nine trails without trail improvement, not authorizing recreational ORV use on any trails, and authorizing recreational ORV use on improved trails in the preserve but not the park. Public input is sought on this range of alternatives. In all action alternatives, subsistence ORV use would be monitored and measures taken to mitigate resource impacts.

Scoping: This notice extends the scoping period for this EIS and solicits comments. The NPS requests input from the public including local rural residents and residents of the park's twenty-three resident zone communities who engage in subsistence activities within the park.

Before including your address, phone number, e-mail address, or other personal identifying information in your comment, you should be aware that your entire comment—including your personal identifying information—may be made publicly available at any time. While you can ask us to withhold your personal identifying information from public review, we cannot guarantee that we will be able to do so. We will always make submissions from organizations or businesses, and from individuals identifying themselves as representatives or officials of organizations or businesses, available for public inspection in their entirety.

DATES: Comments should be received on or before June 29, 2009. Electronic comments may be submitted to the NPS Planning, Environment, and Public Comment (PEPC) Web site at http://parkplanning.nps.gov/WRST. Written comments also may be mailed or faxed to the address and phone number provided below.

FOR FURTHER INFORMATION CONTACT: Meg Jensen, Park Superintendent, Wrangell-St. Elias National Park and Preserve, P.O. Box 439, Copper Center, Alaska 99573. Telephone (907) 822-5234, Fax (907) 822-7259.

SUPPLEMENTARY INFORMATION: The December 21, 2007 Notice of Intent for the project was followed by scoping which included five public meetings in March and April of 2008. The meetings were held in Anchorage, Fairbanks, Tok, Slana, and Glennallen, Alaska. Scoping also included meetings with the Wrangell-St. Elias Park Subsistence Resource Commission, the Southcentral Alaska Federal Subsistence Regional Advisory Council, Ahtna Inc., and the villages of Mentasta and Chistochina. The public scoping process and the comments received were summarized in a scoping report posted on the park's Web site and on the NPS Planning, Environment, and Public Comment (PEPC) Web site at http://parkplanning.nps.gov/WRST.

Based on comments received from the public, NPS developed a set of draft alternatives. An alternative package was sent out for public review and comment in December 2008. NPS received over 30 comments, nine of which requested that NPS consider reasonable regulation of subsistence ORV use within a range of alternatives.

Public meetings will be held after the release of the Draft EIS, tentatively scheduled for Spring 2010. Public meetings will be held in Anchorage, Fairbanks, Tok, Glennallen, and Slana, Alaska. When public meetings have been scheduled, the dates, times, and locations will be announced in local newspapers and posted on the NPS Planning, Environment, and Public Comment (PEPC) Web site at http://parkplanning.nps.gov/WRST.

Dated: March 25, 2009.
Sue E. Masica,
Regional Director, Alaska Region.

[FR Doc. E9-9783 Filed 4-28-09; 8:45 am]

BILLING CODE 4312-HC-P